DEPARTMENT OF THE INTERIOR

National Park Service

National Register of Historic Places; Notification of Pending Nominations and Related Actions

Nominations for the following properties being considered for listing or related actions in the National Register were received by the National Park Service before November 18, 2006. Pursuant to section 60.13 of 36 CFR part 60, written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by December 16, 2006.

John W. Roberts,
Acting Chief National Register/National Historic Landmarks Program.

CALIFORNIA

San Diego County

Ginty, John, House, 1568 Ninth Ave., San Diego, 06001157

Santa Cruz County

Grace Episcopal Church, 12547 CA 9, Boulder Creek, 06001158

COLORADO

Denver County

Bonfils Memorial Theater, 1475 Elizabeth St., Denver, 06001160

DISTRICT OF COLUMBIA

District of Columbia

Chesapeake and Potomac Telephone Company Warehouse and Repair Facility, (Telecommunications Resources of Washington DC MPS) 1111 N. Capitol St., NE., Washington, 06001159

IOWA

Clarke County

Cowles, George H. and Alice Spaulding, House, 229 W. Cass St., Osceola, 06001161

Polk County

Taft-West Warehouse, 216-222 Court Ave., Des Moines, 06001162

KANSAS

Chase County

Cedar Point Mill, Jct. of Main and First Sts., Cedar Point, 06001166

Fox Creek Stone Arch Bridge, (Masonry Arch Bridges of Kansas TR) ½ mi. N and ¾ mi. W of jct. of U.S. 50 and Cottonwood St., Strong City, 06001164

Douglas County

Stony Point Evangelical Lutheran Church, 1575 N. 600 Rd., Baldwin City, 06001168

Geary County

Brown, George T., House, 222 S. Jefferson St., Junction City, 06001167

Russell County

Banks—Waudby Building, 719 N. Main St., Russell, 06001172

First National Bank—Waudby Building, 713 N. Main St., Russell, 06001174

Saline County

Roosevelt-Lincoln Junior High School, (Public Schools of Kansas MPS) 210 W. Mulberry St., Salina, 06001169

Sedgwick County

Clapp, R.D.W., House, 320 N. Belmont, Wichita, 06001173

Mohr Barn, 14920 W. 21st St. N, Wichita, 06001170

Shawnee County

Dillon House, 404 W. Ninth St., Topeka, 06001171

Smith County

First National Bank Building, 100 N. Main, Smith Center, 06001163

MARYLAND

Baltimore County

Central Catonsville and Summit Park Historic District, Bet. Frederick Rd., S. Rolling Rd. and Mellor Ave., Catonsville, 06001186

Baltimore Independent City

East Baltimore Historic District, Old, Generally Bounded by Janes Falls, Greenmount Cemetery, North Ave., Broadway, and Madison, Ashland and Eager Sts., Baltimore (Independent City), 06001175

Pigtown Historic District, Roughly bounded by McHenry St. and Ramsay St., W. Barre, S. Paca, Ostend and Wicomico Sts., Bush and Bayard Sts., and RR, Baltimore (Independent City), 06001177

Kent County

Radcliffe Mill, 860 High St., Chestertown, 06001165

MASSACHUSETTS

Bristol County

Bourne Mill, 844 State Ave., Fall River, 06001190

MINNESOTA

Carlton County

Oldenburg, Henry C., House, 604 Chestnut St., Carlton, 06001183

Hennepin County

Hagel Family Farm, 11475 Tilton Trail S, Hassan Township, 06001182

Todd County

Christie, Dr. George R., House, 15 1st St. S, Long Prairie, 06001184

Hewitt Public School, 514 N. Wisconsin St., Hewitt, 06001181

MISSISSIPPI

Jefferson Davis County

Wilkes, Stephen H., House, 1522 S. Williamsburg Rd., Bassfield, 06001176

MONTANA

Flathead County

McCarthy-Pederson Farm Historic District, 820 Riverside Rd., Kalispell, 06001188

Gallatin County

B-K Ranch, 750 Lone Mountain Ranch Rd., Big Sky, 06001185

Watkins Creek Ranch, 1207 Firehole Ranch Rd., West Yellowstone, 06001180

Lewis and Clark County

Spalding—Gunn House, 433 Clarke St., Helena, 06001187

Lincoln County

Theodore Roosevelt Memorial Bridge, Crossing the Kootenai R. at Riverside Dr., Troy, 06001178

Troy Jail, 316 E. Yaak Ave., Troy, 06001179

RHODE ISLAND

Newport County

Bourne Mill, 844 State Ave., Tiverton, 06001189

Providence County

Bridgeton School, 16 Laurel Hill Ave., Burrillville, 06001191

UTAH

Cache County

Hatch's Camp, 8.3 mi. E from mouth of Logan Canyon, Cache National Forest, 06001192

WISCONSIN

Fond Du Lac County

Sisson's Peony Gardens, 207 N. Main St., Rosendale, 06001193

[FR Doc. E6-20348 Filed 11-30-06; 8:45 am]

BILLING CODE 4312-51-P